ENVIRONMENTAL PROTECTION AGENCY

[FRL-6901-9]

Notice of Availability for Draft Guidance Document on “Guidance for the Submission of State/Local/Tribal Rules in Place of Section 112 Requirements”

AGENCY: Environmental Protection Agency (EPA).

ACTION: Notice of availability.

SUMMARY: The EPA is making available for public review and comment a preliminary draft of its pending guidance on delegation of Federal section 112 hazardous air pollutant (HAP) requirements to State, Local, and Tribal Air Pollution Control Agencies (S/L/T). The guidance also includes information on the substitution of Federal section 112 requirements with S/L/T requirements. Under section 112(l) of the Clean Air Act, the EPA is authorized to approve alternative S/L/T HAP standards or programs when such requirements are demonstrated to be no less stringent than EPA's rules or requirements.

On August 30, 2000, the EPA revised the 40 CFR part 63, subpart E “Approval of State Programs and Delegation of Federal Authorities” to address concerns of S/L/T regarding flexibility and burdensome requirements. The changes will help S/L/T preserve the integrity of their existing HAP programs by offering a range of options for demonstrating equivalence with corresponding Federal requirements and expediting the approval process.

DATES: The comment period on the draft guidance will close on December 14, 2000.

ADDRESSES: Comments should be sent to Pamela J. Smith, Information Transfer and Program Integration Division (MD-12), Office of Air Quality Planning and Standards, U.S. EPA, Research Triangle Park, North Carolina 27711, telephone 919-541-0641, telefax 919-541-5509 or E-mail Smith.pam@epa.gov.

FOR FURTHER INFORMATION CONTACT: For more information, please contact Thomas A. Driscoll, Information Transfer and Program Integration Division (MD-12), Office of Air Quality Planning and Standards, U.S. EPA, Research Triangle Park, North Carolina 27711, telephone 919-541-5135, telefax 919-541-5509 or E-mail driscoll.tom@epa.gov.

SUPPLEMENTARY INFORMATION: A draft of EPA's guidance is available at http://www.epa.gov/ttn/uatw/112(l)/112-lpg.html for public review and comment. The EPA does not intend to respond to individual comments, but rather to consider comments and information from the public in the preparation of a final guidance document.

Dated: October 19, 2000.
Henry C. Thomas,
Acting Director, Office of Air Quality Planning and Standards.

[FR Doc. 00-29063 Filed 11-13-00; 8:45 am]

BILLING CODE 6560-50-P